DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed new Form EIA-910, “Monthly Natural Gas Marketer Survey.”

DATES: Comments must be filed on or before December 29, 2000. If you anticipate difficulty in submitting comments within that period, contact the person listed below as soon as possible.

ADDRESSES: Send comments to Roy Kass (EI-44), ATTN: Form EIA-910, Forrestal Building, U.S. Department of Energy, Washington, D.C. 20585. Alternatively, Mr. Kass may be reached by telephone at 202-586-4790, by FAX at 202-586-4420 or by e-mail at roy.kass@eia.doe.gov.

FOR FURTHER INFORMATION CONTACT: Requests for additional information or a copy of the form and instructions should be directed to Mr. Kass at the address listed above. The proposed forms and instructions are also available on the Internet at http://www.eia.doe.gov/smg/eia910.pdf.

SUPPLEMENTARY INFORMATION:

I. Background

II. Current Actions

III. Request for Comments

I. Background

The Federal Energy Administration Act of 1974 (FEA Act) (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. To carry out this program, section 13(b) of the FEA Act (15 U.S.C. 772(b)) states that “All persons owning or operating facilities or business premises who are engaged in any phase of energy supply or major energy consumption shall make available to the (Administrator) such information and periodic reports, records, documents, and other data, relating to the purposes of this Act, * * *”

Under the authorities granted, EIA conducts mandatory surveys of companies involved in energy supply and consumption. EIA's current surveys of energy suppliers include monthly surveys of petroleum product resellers and retailers, electric power supply and marketing companies, and natural gas supply companies. Collecting information from all types of energy supply companies provides EIA with information used to accurately estimate energy prices and quantities. Users of EIA's information include analysts in Federal, State, and local governments, as well as analysts in energy trade associations, energy companies, the media, consultants, and other private organizations.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under Section 3507(a) of the Paperwork Reduction Act of 1995.

EIA's coverage of natural gas prices is declining in states with active customer choice programs as customers choose to purchase gas from marketers rather than local distribution companies. There are significant variations in energy prices paid in different states and by different economic sectors within states. Data on the price of natural gas sold by marketers to residential and commercial customers by state are required to assess the gas industry's performance and to meet the needs of EIA's data users. (See http://www.eia.doe.gov/oil_gas/natural_gas/ng2/ng2main.html for more information on EIA's natural gas data requirements.) The data requirements were developed with careful consideration of the public policy and economic issues through a series of focus groups conducted by EIA with representatives from the natural gas industry, State and Federal government representatives, and through cognitive interviews with industry representatives. The requirements have also been reconsidered based on comments received in response to an earlier Federal Register notice (65 FR 44524 issued on July 18, 2000) for proposed Form EIA-905, “Monthly Natural Gas Biller Survey.”

Based upon these activities, EIA revised the scope of the survey to collect information necessary for developing accurate estimates of state-level prices paid by commercial and residential consumers of natural gas. These revisions should significantly reduce the reporting requirements and associated reporting burdens for the survey respondents, while at the same time providing the information needed by EIA and its data users.

Changes from the earlier proposed survey are: (1) Revenue and operational data will only be required from natural gas marketers, instead of the earlier proposal requesting billing and operational data from marketers, local distribution companies, and their associated billing agents, and (2) respondent burden for completing the survey has been significantly lowered by reducing the amount of data to be reported and by requesting data at the state level rather by service area within each state (or jurisdiction).

In the EIA-910 survey, initially data will only be requested for both the residential and commercial sectors in five states (Georgia, Maryland, New York, Ohio and Pennsylvania). EIA conducted additional research to ensure that the proposed survey would not duplicate reliable information that EIA could obtain through other means. Preliminary research conducted of public service/utilities commissions in the five states indicate that monthly revenue data are unavailable, except in Georgia where marketers report revenue for the residential sector only. Thus, requesting respondents to complete this form will not be a duplicate effort in these five states.

II. Current Actions

The proposed survey will collect state-level monthly data for both the residential and commercial sectors. Specifically, respondents will report the number of customers, volumes of natural gas sold (in either therms or thousand cubic feet), and revenues. The data will be collected in states with active customer choice programs. Respondents will be provided with options for reporting by the submission of paper forms and electronic reporting. In the first year, data will be collected only for Georgia, Maryland, New York, Ohio and Pennsylvania. The survey may be expanded in later years to require reporting for additional states as participation in customer choice programs rises and as EIA identifies increasing coverage problems in its natural gas price data.

Information collected in the proposed EIA-910 will be treated as confidential and will not be disclosed to the public to the extent permitted by law that the information satisfies the criteria for exemption in the Freedom of Information Act (FOIA), 5 U.S.C. 552, the DOE regulations 10 CFR 1004.11, implementing the FOIA, and the Trade Secrets Act, 18 U.S.C. 1905. This is the same treatment given to confidential data collected in other EIA surveys of energy companies.

The data collected from marketers who sell natural gas to residential and commercial customers will be compiled and incorporated into EIA's monthly and annual natural gas publications. The data will also be used in EIA's modeling and analytical efforts, and to answer questions from Federal policymakers, Congress, and the general public. The data are not intended to be collected for regulatory purposes and no rulemaking is involved.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. Are the instructions and definitions clear and sufficient? If not, which instructions need clarification?

B. Can the information be submitted by the due date?

C. Initially, it is expected that potential survey respondents will require 40 hours to prepare for this new survey. After that, reporting burden is estimated to average 2 hours per month for each state for which a marketer reports. This is similar to the burden estimates for other energy supply monthly surveys that EIA conducts. EIA expects that all information needed for reporting should be part of the normal business records of the potential respondents. The estimated burden includes the total time necessary to provide the requested information. In your opinion, how accurate are the burden estimates?

D. EIA estimates that the only cost to a respondent is for the time it will take to prepare for and complete the survey. Will a respondent incur any other start-up costs for reporting, or any recurring annual costs for operation, maintenance, and purchase of services associated with the information collection?

E. What additional actions could be taken to minimize the burden of this collection of information? Such actions may involve the use of automated, electronic, mechanical, or other technological collection techniques or other forms of information technology.

F. Does any other Federal, State, or local agency collect similar information that would be useful for developing the accurate and independent natural gas data that would be available from the proposed survey? If so, specify the agency, the data element(s), the methods of collection, and the name and phone number of someone that EIA may contact for additional information.

As a Potential User of the Information to be Collected

A. Is the information useful at the levels of detail to be collected?

B. For what purpose(s) would the information be used? Be specific.

C. Are there alternate sources for the information and are they useful? If so, please specify the sources and their weaknesses and/or strengths?

Comments submitted in response to this notice will be summarized and/or included in the request for OMB approval of the form. The comments also will become a matter of public record.

Statutory Authority: Section 3506(c)(2)(A) of the Paperwork Reduction Act of 1995 (Pub. L. No. 104-13, 44 U.S.C. Chapter 35).

Issued in Washington, DC, October 23, 2000.
Stanley R. Freedman,
Acting Director, Statistics and Methods Group, Energy Information Administration.

[FR Doc. 00-27743 Filed 10-27-00; 8:45 am]

BILLING CODE 6450-01-P